DEPARTMENT OF THE INTERIOR

Geological Survey

Proposed Information Collection: State Water Resources Research Institute Program Annual Application and Reporting

AGENCY: United States Geological Survey (USGS), Interior.

ACTION: Notice of a new collection; request for comments.

SUMMARY: We (U.S. Geological Survey) will ask the Office of Management and Budget (OBM) to approve the information collection (IC) described below. As required by the Paperwork Reduction Act of 1995 and as a part of our continuing effort to reduce paperwork and respondent burden, we invite the general public and other Federal agencies to comment on this IC. We may not conduct or sponsor and a person is not required to respond to an information collection unless it displays a currently valid OMB control number.

DATES: You must submit comments on or before March 1, 2010.

ADDRESSES: Send your comments to the IC to Phadrea Ponds, Information Collections Clearance Officer, U.S. Geological Survey, 2150-C Centre Avenue, Fort Collins, CO 80525 (mail); (970) 226-9230 (fax); or pponds@usgs.gov (e-mail). Please reference Information Collection 1028-NEW, USGS-SWRIP in the subject line.

FOR FURTHER INFORMATION CONTACT: John E. Schefter, Chief, Office of External Research, U.S. Geological Survey, 12201 Sunrise Valley Drive, MS 424, Reston, Virginia 20192 (mail) at (703) 648-6800 (Phone); or schefter@usgs.gov (e-mail).

SUPPLEMENTARY INFORMATION:

I. Abstract

The Water Resources Research Act of 1984, as amended (42 U.S.C. 10301 et seq.), authorizes a water resources research institute or center in each of the 50 states, the District of Columbia, Puerto Rico, the U.S. Virgin Islands, Guam, the Federated States of Micronesia, the Commonwealth of the Northern Mariana Islands, and American Samoa. There are currently 54 such institutes, one in each state, the District of Columbia, Puerto Rico, the U.S. Virgin Islands, and Guam. The institute in Guam is a regional institute serving Guam, the Federated States of Micronesia, and the Commonwealth of the Northern Mariana Islands. The State Water Resources Research Institute Program issues an annual call for applications from the institutes to support plans to promote research, training, information dissemination, and other activities meeting the needs of the States and Nation. The program also encourages regional cooperation among institutes in research into areas of water management, development, and conservation that have a regional or national character. Each of the 54 institutes submits an annual application for an allotment grant and provides an annual report on its activities under the grant. The U.S. Geological Survey has been designated as the administrator of the provisions of the Act.

II. Data

OMB Control Number: None. This is a new collection.

Title: State Water Resources Research Institute Program Annual Application and Reporting.

Type of Request: New.

Affected Public: The state water resources research institutes authorized by the Water Resources Research Act of 1984, as amended, and listed at http://water.usgs.gov/wrri/institutes.html.

Respondent's Obligation: Mandatory (necessary to obtain benefits).

Frequency of Collection: Annually.

Estimated Number of Annual Respondents: We expect to receive 54 applications and award 54 grants per year.

Estimated Annual Total Responses: 54.

Estimated Time per Response: 160 hours. This includes 80 hours per applicant to prepare and submit the annual application; and 80 hours (total) per grantee to complete the annual reports.

Annual Burden Hours: 8,640.

III. Request for Comments

We invite comments concerning this IC on:

(1) Whether or not the collection of information is necessary, including whether or not the information will have practical utility;

(2) the accuracy of our estimate of the burden for this collection of information;

(3) ways to enhance the quality, utility, and clarity of the information to be collected; and

(4) ways to minimize the burden of the collection of information on respondents.

Please note that the comments submitted in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that it will be done.

USGS Information Collection Clearance Officer: Phadrea D. Ponds 970-226-9445.

Dated: December 10, 2009.
John E. Schefter,
Water Resources Research Act Program Coordinator.

[FR Doc. E9-30727 Filed 12-28-09; 8:45 am]

BILLING CODE 4311-AM-P